DEPARTMENT OF COMMERCE

National Oceanic and Atmospheric Administration

RIN 0648-XG313

Marine Mammals; File No. 21585

AGENCY: National Marine Fisheries Service (NMFS), National Oceanic and Atmospheric Administration (NOAA), Commerce.

ACTION: Notice; receipt of application.

SUMMARY: Notice is hereby given that Oregon State University, Marine Mammal Institute, 2030 Southeast Marine Science Drive, Newport, OR 97365 (Responsible Party: Bruce Mate, Ph.D.), has applied in due form for a permit to conduct research on 67 species of marine mammals.

DATES: Written, telefaxed, or email comments must be received on or before August 8, 2018.

ADDRESSES: The application and related documents are available for review by selecting “Records Open for Public Comment” from the “Features” box on the Applications and Permits for Protected Species (APPS) home page, https://apps.nmfs.noaa.gov, and then selecting File No. 21585 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 21585 in the subject line of the email comment.

Those individuals requesting a public hearing should submit a written request to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a five-year research permit to: (1) Characterize the spatial and temporal distribution of cetaceans throughout their range, (2) identify migration routes, home ranges, habitats, and core areas of use, (3) characterize foraging behavior, (4) characterize ecological relationships to help explain movement patterns, and (5) opportunistically study pinnipeds encountered during cetacean studies to contribute knowledge of the species and document health concerns including human interactions. Research may occur in U.S. and international waters world-wide. Up to 67 species of marine mammals may be targeted including the following endangered or threatened species and stocks of cetaceans: Blue (Balaenoptera musculus), bowhead (Balaena mysticetes), Cook Inlet beluga (Delphinapterus leucas), fin (B. physalus), gray (Eschrichtius robustus), humpback (Megaptera novaeangliae), Main Hawaiian Islands insular false killer (Pseudorca crassidens), North Pacific right (Eubalaena japonica), sei (B. borealis), Southern Resident killer (Orcinus orca), Southern right (E. australis), and sperm (Physeter macrocephalus) whales. Targeted cetaceans may be taken during vessel and manned aerial surveys for observation, photography, passive acoustic recording, echosounders for prey mapping, biological sampling (sloughed skin or skin and blubber biopsy), and fully-implantable tagging. See the application for complete numbers of animals requested by species and procedure.

The following endangered or threatened species of pinnipeds may be harassed and opportunistically observed and photographed during surveys: Western Steller sea lions (Eumetopias jubatus), and bearded (Erignathus barbatus), Guadalupe fur (Arctocephalus townsendi), Hawaiian monk (Neomonachus schauinslandi), ringed (Phoca hispida) and spotted (P. largha) seals.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 3, 2018.
Julia Marie Harrison,
Chief, Permits and Conservation Division, Office of Protected Resources, National Marine Fisheries Service.

[FR Doc. 2018-14676 Filed 7-6-18; 8:45 am]

BILLING CODE 3510-22-P